DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period September 1, 2004-October 15, 2004
Firm name | Address | Date petition accepted | Product
Tech II, LLC | 511 East Highway 33 Perkins, OK 74059 | 01-Sep-04 | Plastic molds.
Lawrence Paper Company (The) | 2801 Lakeview Road Lawrence, KS 66044 | 14-Sep-04 | Corrugated boxes and displays, thermoform plastic packaging, and spiral wound tubes.
Shamrock Piep Tools, Inc | 10928 South Choctaw Baton Rouge, LA 70815 | 20-Sep-04 | Sewer cleaning tools including nozzles, pumps, hoses, rods and jets.
Tulsa Tube Bending Co., Inc | 4192 South Galveston Tulsa, OK 74107 | 20-Sep-04 | Fabricated pipe and fittings.
Quik Water, Inc. | 8939 West 21st Street Sand Springs, OK 74063 | 24-Sep-04 | Contact water heaters.
CAD Oilfield Specialties, Inc., d.b.a. CAD Control Systems | 1017 Freeman Road Broussard, LA 70518 | 27-Sep-04 | Blow out prevention control systems.
L. E. Smith Glass Company | 1900 Liberty Street Mt. Pleasant, PA 15666 | 27-Sep-04 | Hand molded and decorative glass giftware and lighting components.
Waterford Furniture Makers | 800 Kemper Street Lynchburg, VA 24501 | 27-Sep-04 | Bedroom furniture.
Envirotrol, Inc. | 432 Green Street Sewickley, PA 15143 | 28-Sep-04 | Activated carbon pollution control equipment.
Sheppard Enterprises, Inc. d.b.a. Sheppard Envelope Co | 133 Southbridge Street Auburn, MA 01501 | 28-Sep-04 | Envelopes.
Green Mountain Wood Products and Nantucket Post Cap, Inc | 44 Hull Street Randolph, VT 05060 | 15-Oct-04 | Wind chime parts.
Omega Plastics, Inc. | 24401 Capital Boulevard Clinton Township, MI 48036 | 30-Sep-04 | Plastic parts for automotive use, e.g. caps and closures, and injection type molds.
Toland Enterprises, Inc. | 1750 South Lane Mandeville, LA 70471 | 30-Sep-04 | Decorative flags.
Circle Y Saddles, Inc. | 201 Morris Street Yoakum, TX 77995 | 05-Oct-04 | Saddles.
JMC Manufacturing Co. | 13519 Northwest Industrial Bridgeton, MO 63044 | 05-Oct-04 | Laminated and fabricated wood products.
Glassautomatic, Inc. | RR 4, Box 1340 Mt. Pleasant, PA 15666 | 08-Oct-04 | Cut glass.
J. K. Tool & Die, Inc. | 321 N. Washington Road Apollo, PA 15613 | 08-Oct-04 | Stamping dies for the electronics industry.
Packerware Corporation | 2330 Packer Road Lawrence, KS 66049 | 08-Oct-04 | Plastic drink cups.
Silicon Forest Electronics, Inc | 6204 East 18th Street Vancouver, WA 98661 | 08-Oct-04 | Printed circuit assemblies.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: November 5, 2004.
Anthony J. Meyer,
Senior Program Analyst, Office of Strategic Initiatives.

[FR Doc. 04-25181 Filed 11-10-04; 8:45 am]

BILLING CODE 3510-24-P